DEPARTMENT OF HEALTH AND HUMAN SERVICES

42 CFR Part 82

RIN 0920-ZA00

Methods for Radiation Dose Reconstruction Under the Energy Employees Occupational Illness Compensation Act of 2000

AGENCY: Department of Health and Human Services.

ACTION: Interim Final Rule; Reopening of Comment Period.

SUMMARY: The Department of Health and Human Services (DHHS), is reopening the comment period for the interim final rule for dose reconstruction for certain claims for cancer under the Energy Employees Occupational Illness Program Act (EEOICPA) that was published in the Federal Register on Friday, October 5, 2001. After considering these comments, comments previously received, and comments from the Advisory Board on Radiation and Worker Health (ABRWH) DHHS will publish a final rule.

DATES: Public written comments must be received on or before Friday, March 1, 2002.

ADDRESSES: Submit written comments to: Attention—Dose Reconstruction Comments, Department of Health and Human Services, National Institute for Occupational Safety and Health (NIOSH), Robert A. Taft Laboratories, MS-C34, 4676 Columbia Parkway, Cincinnati, OH 45226, Telephone: (513) 533-8450, Fax: (513) 533-8285, email: NIOCINDOCKET@CDC.GOV.

FOR FURTHER INFORMATION CONTACT: Larry Elliott, Director, Office of Compensation Analysis and Support, National Institute for Occupational Safety and Health, 4676 Columbia Parkway, Cincinnati, OH 45226, Telephone (513) 841-4498 (this is not a toll free number). Information requests may also be submitted by e-mail to OCAS@CDC.GOV.

SUPPLEMENTARY INFORMATION: On October 5, 2001, HHS published an interim final rule establishing methods for radiation dose reconstruction to be conducted for certain cancer claims filed under EEOICPA, Public Law 106-398 [See FR Vol. 66, No. 194, 50978]. The notice included a public comment period that ended November 5, 2001. However, DHHS requested the ABRWH to conduct a review of its dose reconstruction methods.

The ABRWH held its first meeting in Washington, DC on January 22-23, 2002. Due to the ABRWH's intensive work on the statutorily required technical review of the proposed probability of causation rule, the ABRWH was unable to complete the requested review of the interim final rule. Public comments, both written and oral, were accepted for inclusion in the docket on both the interim final rule and proposed rulemaking prior to and during the ABRWH meeting. The public comment period closed on the last day of the ABRWH meeting, January 23, 2002.

To allow the ABRWH ample opportunity to complete their review of and comments on the interim final rule, the public comment period for the interim final rule on dose reconstruction will be re-opened until Friday, March 1, 2002. This will allow the ABRWH to have at least one more meeting to prepare their comments on the interim final rule, and to accept further written and oral comments from the general public at its next meeting.

All written comments on the interim final rule for dose reconstruction must be received at the Docket Office on or before Friday, March 1, 2002. Written and oral comments made during the meeting(s) of the ABRWH prior to Friday, March 1, 2002 will also be included in the docket for the interim final rule.

Dated: February 12, 2002.
Tommy G. Thompson,
Secretary.

[FR Doc. 02-3809 Filed 2-12-02; 3:00 pm]

BILLING CODE 4160-17-U